DEPARTMENT OF COMMERCE

International Trade Administration

[C-570-048]

Certain Carbon and Alloy Steel Cut-to-Length Plate From the People's Republic of China: Initiation of Expedited Review of the Countervailing Duty Order

AGENCY: Enforcement and Compliance, International Trade Administration, Department of Commerce.

SUMMARY: The Department of Commerce (the Department) is initiating an expedited review of the countervailing duty order on certain carbon and alloy steel cut-to-length plate (CTL plate) from the People's Republic of China (PRC) with respect to Jiangsu Tiangong Tools Company Limited (Tiangong Tools).

DATES: Effective May 22, 2017.

FOR FURTHER INFORMATION CONTACT: Ryan Mullen, AD/CVD Operations, Office V, Enforcement and Compliance, International Trade Administration, U.S. Department of Commerce, 1401 Constitution Avenue NW., Washington, DC 20230; telephone (202) 482-5260.

SUPPLEMENTARY INFORMATION:

Background

On March 20, 2017, the Department published the countervailing duty order on CTL plate from the PRC.¹ On April 19, 2017, the Department received a request from Tiangong Tools to conduct an expedited review of this countervailing duty order.² Tiangong Tools, a company that was not selected for individual examination during the investigation, made this request. pursuant to 19 CFR 351.214(k).

¹ See Certain Carbon and Alloy Steel Cut-to-Length Plate from the People's Republic of China: Countervailing Duty Order, 82 FR 14346 (March 20, 2017).

² See Tiangong Tools Letter re: Request for Expedited Review, dated April 19, 2017. Tiangong Tool's letter includes a request for review of both Jiangsu Tiangong Tools Company Limited and Tiangong Aihe Company Limited. However, the Department is not initiating on Tiangong Aihe Company Limited, as this company is not an exporter as required by 19 CFR 351.214(k)(1). See also Memorandum to the File, “Telephone Call with Jiangsu Tiangong Tools Company Limited,” dated April 28, 2017.

Initiation of Expedited Review

In accordance with 19 CFR 351.214(k)(1)(i)-(iii), Tiangong Tools certified that it exported the subject merchandise to the United States during the period of investigation,³ that it was not affiliated with an exporter or producer that the Department individually examined in the investigation, and that it informed the Government of the PRC, as the government of the exporting country, that the government will be required to provide a full response to the Department's questionnaire. In addition, pursuant to 19 CFR 351.214(k)(1), in the underlying investigation, the Department limited the number of exporters or producers to be individually examined under section 777A(e)(2)(A), and did not accept Tiangong Tool's request for voluntary respondent treatment.⁴

³ January 1, 2015, through December 31, 2015.

⁴ See Certain Carbon and Alloy Steel Cut-to-Length Plate from the People's Republic of China: Preliminary Affirmative Countervailing Duty Determination and Alignment of Final Determination with Final Antidumping Duty Determination, 81 FR 62871 (September 13, 2016), and accompanying Preliminary Decision Memorandum at 2, unchanged in Certain Carbon and Alloy Steel Cut-to-Length Plate from the People's Republic of China: Final Affirmative Countervailing Duty Determination, 82 FR 8507 (January 26, 2017).

Therefore, in accordance with 19 CFR 351.214(k), we are initiating an expedited review of the countervailing duty order on CTL plate from the PRC with respect to Tiangong Tools. Pursuant to 19 CFR 351.214(i)(1) and (k)(3), we intend to issue the preliminary results of this expedited review not later than 180 days from the date of initiation of this review.⁵ As specified by 19 CFR 351.214(k)(3)(i), the period of review will be the same as the original period of investigation.

⁵ Under 19 CFR 351.214(k)(i)(2), this period may be extended to 300 days.

Pursuant to 19 CFR 351.214(k)(3)(iii), the final results of this expedited review will not be the basis for the assessment of countervailing duties. Instead, this expedited review is intended to establish individual cash deposit rates for Tiangong Tools, or to exclude it from the countervailing duty order if the final results of review are zero or de minimis, as provided in 19 CFR 351.214(k)(3)(iv).

Interested parties must submit applications for disclosure under administrative protective orders, in accordance with 19 CFR 351.305 and 351.306.

Dated: May 16, 2017.
Gary Taverman,
Associate Deputy Assistant Secretary for Antidumping and Countervailing Duty Operations.

[FR Doc. 2017-10421 Filed 5-19-17; 8:45 am]

BILLING CODE 3510-DS-P